FEDERAL DEPOSIT INSURANCE CORPORATION

[OMB No. 3064-0025; -0134]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0025 and -0134).

DATES: Comments must be submitted on or before November 22, 2021.

ADDRESSES: Interested parties are invited to submit written comments to the FDIC by any of the following methods:

• https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collections of information:

1. Title: Application for Consent to Exercise Trust Powers.

OMB Number: 3064-0025.

Form Number: 6200-09.

Affected Public: Insured state nonmember banks wishing to exercise trust powers.

Burden Estimate:

Table 1—Summary of Estimated Annual Burdens (OMB No. 3064-0025)
IC description | Type of burden (obligation to respond) | Frequency of response | Number of respondents | Number of responses per respondent | Hours per response | Annual burden (hours)
Eligible depository institutions | Reporting (Required to obtain or retain a benefit) | On occasion | 6 | 1 | 8 | 48
Not-eligible depository institutions | Reporting (Required to obtain or retain a benefit) | On occasion | 1 | 1 | 24 | 24
Total Annual Burden Hours |  |  |  |  |  | 72
Source: FDIC.

General Description of Collection: FDIC regulations (12 CFR 333.2) prohibit any insured State nonmember bank from changing the general character of its business without the prior written consent of the FDIC. The exercise of trust powers by a bank is usually considered a change in the general character of a bank's business if the bank did not exercise those powers previously. Therefore, unless a bank is currently exercising trust powers, it must file a formal application to obtain the FDIC's written consent to exercise trust powers. State banking authorities, not the FDIC, grant trust powers to their banks. The FDIC merely consents to the exercise of such powers. Applicants use form FDIC 6200/09 to obtain FDIC's consent. There is no change in the methodology or substance of this information collection. The decrease in total estimated annual burden from 168 hours in 2018 to 72 hours currently is due to economic factors as reflected in the decrease in estimated number of respondents.

2. Title: Customer Assistance Forms.

OMB Number: 3064-0134.

Form Numbers: 6422-04; -6422/11; 6422/15.

Affected Public: Individuals, Households, Business or Financial Institutions.

Burden Estimate:

Summary of Annual Burden
Information collection description | Type of burden | Obligation to respond | Estimated number of respondents | Estimated average frequency of response | Estimated time per response | Estimated annual burden
Customer Assistance Form (6422/04) | Reporting | Voluntary | 4,737 | 1 | 0.25 hours | 1,184 hours.
Business Assistance Form (6422/11) | Reporting | Voluntary | 225 | 1 | 0.25 hours | 56 hours.
FDIC Deposit Insurance Form (6422/15) | Reporting | Voluntary | 911 | 1 | 0.25 hours | 228 hours.

Total Estimated Annual Burden: 1,468 hours.

General Description of Collection: This collection facilitates the collection of information from customers of financial institutions that have inquiries or complaints about service. Customers or businesses may document their complaints or inquiries to the FDIC using a letter or optional forms (Form 6422/04; Form 6422/11; Form 6422/15). The Forms are used to facilitate online completion and submission of the complaints or inquiries and to shorten FDIC response times by making it easier to identify the nature of the complaint and to route the customer or business inquiry to the appropriate FDIC contact. There is no change in the method or substance of the collection. The overall reduction in burden hours is the result of economic fluctuation.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on September 17, 2021.
Federal Deposit Insurance Corporation.
James Sheesley,
Assistant Executive Secretary.

[FR Doc. 2021-20505 Filed 9-21-21; 8:45 am]

BILLING CODE 6714-01-P